Order of April 21, 2005

Designation Under Executive Order 12958

Consistent with the provisions of section 1.3 of Executive Order 12958 of April 17, 1995, as amended, entitled “Classified National Security Information,” I hereby designate the following officers to classify information originally as “Top Secret:”

Director of National Intelligence; and

Director of the Central Intelligence Agency.

Any delegation of this authority shall be in accordance with section 1.3(c) of Executive Order 12958, as amended.

This order shall be published in the Federal Register.

B

THE WHITE HOUSE,

April 21, 2005.

[FR Doc. 05-8485

Filed 4-25-05; 8:45 am]

Billing code 3195-01-P